FEDERAL ELECTION COMMISSION

Sunshine Act Notices

Date & Time: Wednesday, February 20, 2008 at 10 a.m.

Place: 999 E Street, NW., Washington, DC.

Status: This meeting will be closed to the public.

Items to be Discussed: Compliance matters pursuant to 2 U.S.C. 437g. Audits conducted pursuant to 2 U.S.C. 437g, Section 438(b), and Title 26, U.S.C. Matters concerning participation in civil actions or proceedings or arbitration. Internal personnel rules and procedures or matters affecting a particular employee.

* * * * *

Previously scheduled open meeting: Thursday, February 21, 2008. This meeting has been cancelled.

Person to Contact for Information: Mr. Robert Biersack, Press Officer, Telephone: (202) 694-1220.

Mary W. Dove,
Secretary of the Commission.

[FR Doc. 08-736 Filed 2-12-08; 8:45 am]

BILLING CODE 6715-01-M